DEPARTMENT OF AGRICULTURE

Rural Utilities Service

Lawrence County Generation Project; Notice of Availability of Environmental Assessment

AGENCY: Rural Utilities Service, USDA.

ACTION: Notice of availability of environmental assessment.

SUMMARY: Notice is hereby given that the Rural Utilities Service (RUS) is issuing an environmental assessment (EA) for a project proposed by Hoosier Energy Electric Cooperative, Inc., (Hoosier) located in Bloomington, Indiana, and Wabash Valley Power Association, Inc., (Wabash) located in Indianapolis, Indiana. The project consists of constructing a 258 megawatt (MW) net, natural gas fired simple-cycle combustion turbine, electrical generating facility. The Lawrence County Generation Project (LCGP) is proposed to be located in Lawrence County, Indiana.

FOR FUTHER INFORMATION CONTACT: Nurul Islam, Environmental Protection Specialist, Rural Utilities Service, Engineering and Environmental Staff, Stop 1571, 1400 Independence Avenue, SW., Washington, DC 20250-1571, telephone: (202) 720-1414; e-mail: nislam@rus.usda.gov. Information is also available from Ms. Shiela M. Wheeler, Burns & McDonnell Engineering Company, Inc., 9400 Ward Parkway, Kansas City, MO 64114, telephone: (816) 822-3250, Fax: (816) 822-3515, e-mail: swheele@burnsmcd.com. All written comments regarding this project should be sent to Mr. Nurul Islam within 30 days of the publication of this notice at the above address.

SUPPLEMENTARY INFORMATION: The joint project proposed by Hoosier and Wabash will consist of six (6) simple-cycle electric combustion turbines. The primary purpose of the LCGP is to meet the increasing power consumption requirements in their respective territories. Hoosier will own four (4) of the proposed turbines and Wabash will own the remaining two (2). The proposed combustion turbines will receive water from a well field that will be drilled near the project site. The project will utilize the existing gas pipeline and electric transmission line located near the proposed site for operating the facility. The LCGP will be fired on natural gas, #2 diesel fuel may be used as backup fuel. Hoosier and Wabash propose to construct the LCGP in Lawrence County, Indiana. The site is located in a rural portion of Lawrence County, approximately 3.5 miles southeast of Bedford, Indiana. The site consists of about 49 acres of pastureland; approximately 25 acres of this site will be dedicated to the turbine generating units and associated facilities.

Alternatives to the proposed project, including the purchase of power, alternative methods of power generation, and alternative site locations, etc., were evaluated by Hoosier and Wabash. RUS, in accordance with its environmental policies and procedures, required that Hoosier and Wabash prepare an environmental report reflecting the potential impacts of the proposed project. The environmental report, which includes input from Federal, State, and local agencies, has been reviewed and accepted as RUS’ environmental assessment (EA) for the project in accordance with RUS’ Environmental Policies and Procures, § 1794.41. The EA is available for public review at RUS, at the address provided in this notice, or the headquarters of Hoosier and Wabash, and also at the following public libraries:

Hoosier Energy Rural Electric Cooperative, Inc., 7398 N. State Road 37, Bloomington, Indiana 47402. Tel: (812) 876-0374.

Wabash Valley Power Association, Inc., 722 North High School Road, Indianapolis, Indiana 46214. Tel: (317) 581-2842.

Bedford Public Library, 1323 K Street, Bedford, Indiana 47421. Tel: (812) 275-4471.

Mitchell Community Public Library, 804 Man Street, Mitchell, Indiana 47446. Tel: (812) 849-2412.

Questions and comments should be sent to RUS at the address provided in this notice. RUS will accept questions and comments on the EA for 30 days from the date of publication of this notice.

Any final action by RUS related to the proposed project will be subject to, and contingent upon, compliance with all relevant Federal environmental laws and regulations and completion of environmental review procedures as prescribed by the 7 CFR part 1794, Environmental Policies and Procedures.

Dated: March 21, 2003.
Mark S. Plank,
Acting Director, Engineering and Environmental Staff, Rural Utilities Service.

[FR Doc. 03-7234 Filed 3-25-03; 8:45 am]

BILLING CODE 3410-15-P